FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 10, 2017.

A. Federal Reserve Bank of Kansas City (Dennis Denney, Assistant Vice President) 1 Memorial Drive, Kansas City, Missouri 64198-0001:

1. The Deterding Irrevocable Trust, Wichita, Kansas (the DIT); Jane A. Deterding, Goddard, Kansas, as co- trustee of the DIT; Amy S. Keeny, Wichita, Kansas, as co-trustee of the DIT; Mark Keeny, as co-trustee of the Mark D. Keeny Revocable Trust (restated) and the Amy S. Keeny Revocable (restated), all of Wichita, Kansas; and the Jane A. Deterding Revocable Trust, Jane A. Deterding, trustee; to retain voting shares of King Bancshares, Inc., Kingman, Kansas (Company). Citizens Bank of Kansas, Kingman, Kansas. Additionally, the Amy S. Keeny Revocable Trust (restated) and the Mark D. Keeny Revocable Trust (restated) to retain shares of the company as members of the Deterding Family Group which, acting in concert, controls Company.

Board of Governors of the Federal Reserve System, April 19, 2017.
Margaret M. Shanks,
Deputy Secretary of the Board.

[FR Doc. 2017-08277 Filed 4-24-17; 8:45 am]

BILLING CODE 6210-01-P